DEPARTMENT OF THE INTERIOR

Fish and Wildlife Service

[FWS-R8-ES-2017-N067; FXES11130800000-178-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before July 20, 2017.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-28101C

Applicant: Shannon Rose Kieran

The applicant requests a new permit to take (harass by survey, capture, handle, release, collect vouchers, and collect branchiopod cysts) the Conservancy fairy shrimp (Branchinecta conservatio), longhorn fairy shrimp (Branchinecta longiantenna), and vernal pool tadpole shrimp (Lepidurus packardi) in conjunction with survey activities and genetic research throughout the range of the species in California and Oregon for the purpose of enhancing the species' survival.

Permit No. TE-009015

Applicant: Jason Berkley, Chino, California

The applicant requests a permit renewal to take (harass by survey, capture, handle, and release) the San Bernardino Merriam's kangaroo rat (Dipodomys merriami parvus); take (harass by survey and locate and monitor nests) the southwestern willow flycatcher (Empidonax traillii extimus); and take (locate and monitor nests) the least Bell's vireo (Vireo bellii pusillus) in conjunction with survey and population monitoring activities throughout the range of the species in California and Arizona for the purpose of enhancing the species' survival.

Permit No. TE-26551C

Applicant: Matthew Hirkala, Carmichael, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-75988A

Applicant: San Diego Natural History Museum, San Diego, California

The applicant requests a permit renewal and amendment to remove/reduce to possession on Federal lands the following plant taxa in conjunction with survey activities, establishment and maintenance of a living collection or seed bank, and research throughout the range of the species in California for the purpose of enhancing the species' survival.

• Acanthoscyphus parishii var. goodmaniana (Oxytheca p. var. g.) (Cushenbury oxytheca)

• Acmispon dendroideus var. traskiae (Lotus d. subsp. traskiae) (San Clemente Island lotus)

• Allium munzii (Munz's onion)

• Ambrosia pumila (San Diego ambrosia)

• Arctostaphylos glandulosa subsp. crassifolia (Del Mar manzanita)

• Arenaria paludicola (marsh sandwort)

• Astragalus albens (Cushenbury milk-vetch)

• Astragalus brauntonii (Braunton's milk-vetch)

• Astragalus lentiginosus var. coachellae (Coachella Valley milk-vetch)

• Astragalus pycnostachyus var. lanosissimus (Ventura Marsh milk-vetch)

• Astragalus tener var. titi (coastal dunes milk-vetch)

• Astragalus tricarinatus (triple-ribbed milk-vetch)

• Atriplex coronata var. notatior (San Jacinto Valley crownscale)

• Berberis nevinii (Nevin's barberry)

• Calystegia stebbinsii (Stebbins' morning-glory)

• Carex albida (white sedge)

• Castilleja affinis subsp. neglecta (Tiburon paintbrush)

• Cercocarpus traskiae (Catalina Island mountain-mahogany)

• Chloropyron maritimum subsp. maritimum (Cordylanthus maritimus subsp. maritimus) (salt marsh bird's-beak)

• Chorizanthe orcuttiana (Orcutt's spineflower)

• Delphinium variegatum subsp. kinkiense (San Clemente Island larkspur)

• Dodecahema leptoceras (slender-horned spineflower)

• Eriastrum densifolium subsp. sanctorum (Santa Ana River woolly-star)

• Eriogonum ovalifolium var. vineum (Cushenbury buckwheat)

• Eryngium aristulatum var. parishii (San Diego button-celery)

• Fremontodendron mexicanum (Mexican flannelbush)

• Lithophragma maximum (San Clemente Island woodland-star)

• Malacothamnus clementinus (San Clemente Island bush-mallow)

• Monardella viminea (M. linoides subsp. v.) (willowy monardella)

• Nasturtium gambelii (Rorippa g.) (Gambel's watercress)

• Orcuttia californica (California orcutt grass)

• Pentachaeta lyonii (Lyon's pentachaeta)

• Physaria kingii subsp. bernardina (Lesquerella k. subsp. b.) (San Bernardino Mountains bladderpod)

• Poa atropurpurea (San Bernardino bluegrass)

• Poa napensis (Napa bluegrass)

• Pogogyne abramsii (San Diego mesa-mint)

• Pogogyne nudiuscula (Otay mesa-mint)

• Sibara filifolia (Santa Cruz Island rockcress)

• Sidalcea pedata (pedate checker-mallow)

• Taraxacum californicum (California taraxacum)

• Thelypodium stenopetalum (slender-petaled mustard)

Permit No. TE-166490

Applicant: Heather Rodriguez, Fresno, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-27460A

Applicant: Brian Zitt, Huntington Beach, California

The applicant requests a permit amendment to take (harass by survey, capture, handle, and release) the unarmored threespine stickleback (Gasterosteus aculeatus williamsoni) in conjunction with survey activities throughout the range of the species in California, for the purpose of enhancing the species' survival.

Permit No. TE-799570

Applicant: Carol Witham, Sacramento, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi), and remove/reduce to possession from lands under Federal jurisdiction Tuctoria mucronata (Solano grass) in conjunction with survey activities throughout the range of the species in California for the purpose of enhancing the species' survival.

Permit No. TE-782703

Applicant: Michael Couffer, Corona Del Mar, California

The applicant requests a permit renewal take (survey by pursuit) the Quino checkerspot butterfly (Euphydryas editha quino) in conjunction with survey activities throughout the range of the species in California, for the purpose of enhancing the species' survival.

Permit No. TE-840619

Applicant: Jeffrey Priest, San Diego, California

The applicant requests a permit renewal to take (survey by pursuit) the Quino checkerspot butterfly (Euphydryas editha quino) and take (harass by survey) the southwestern willow flycatcher (Empidonax traillii extimus) in conjunction with survey activities throughout the range of the species in California for the purpose of enhancing the species' survival.

Permit No. TE-237086

Applicant: Stillwater Sciences, Berkeley, California

The applicant requests a permit amendment to take (harass by capture, handle, release, and swab for disease) the Sierra Nevada yellow-legged frog (Rana sierrae) in conjunction with research activities throughout the range of the species in California for the purpose of enhancing the species' survival.

Permit No. TE-221290

Applicant: Lee Ripma, San Diego, California

The applicant requests a permit renewal to take (survey by pursuit) the Quino checkerspot butterfly (Euphydryas editha quino) and take (harass by survey, capture, handle, release, collect adult vouchers, and collect branchiopod cysts) the Conservancy fairy shrimp (Branchinecta conservatio), the longhorn fairy shrimp (Branchinecta longiantenna), the Riverside fairy shrimp (Streptocephalus woottoni), the San Diego fairy shrimp (Branchinecta sandiegonensis), and the vernal pool tadpole shrimp (Lepidurus packardi) in conjunction with survey activities throughout the range of the species in California for the purpose of enhancing the species' survival.

Permit No. TE-089980

Applicant: Hagar Environmental Science, Loch Lomond, California

The applicant requests a new permit to take (harass by survey, capture, handle, and release) the tidewater goby (Eucyclogobius newberryi) in Humboldt County, California, in conjunction with survey activities for the purpose of enhancing the species' survival.

Permit No. TE-29909C

Applicant: Jennie Jones Scherbinski, Arcata, California

The applicant requests a new permit to take (harass by survey utilizing fern bundles, cameras and scent detection dogs; collect genetic samples via hair snares; and insert passive integrated transponder (PIT) tags) the Point Arena mountain beaver (Aplodontia rufa nigra) in conjunction with survey and research activities throughout the range of the species in California for the purpose of enhancing the species' survival.

Permit No. TE-839960

Applicant: John Dicus, Black Canyon City, Arizona

The applicant requests a permit renewal to take (survey by pursuit) the Quino checkerspot butterfly (Euphydryas editha quino) and Delhi Sands flower-loving fly (Rhaphiomidas terminatus abdominalis) in conjunction with survey activities throughout the range of the species for the purpose of enhancing the species' survival.

Permit No. TE-29992C

Applicant: Dominic Vitali, Stockton, California

The applicant requests a new permit to take (harass by survey, capture, handle, release, collect adult vouchers, and collect branchiopod cysts) the Conservancy fairy shrimp (Branchinecta conservatio), the longhorn fairy shrimp (Branchinecta longiantenna), and the vernal pool tadpole shrimp (Lepidurus packardi) in conjunction with survey activities throughout the range of the species in California for the purpose of enhancing the species' survival.

Permit No. TE-177903

Applicant: Kathryn Simon, Redlands, California

The applicant requests a permit renewal and amendment to take (harass by survey, capture, handle, mark, and release) the San Bernardino Merriam's kangaroo rat (Dipodomys merriami parvus) in conjunction with survey activities throughout the range of the species in California for the purpose of enhancing the species' survival.

Permit No. TE-30023C

Applicant: Joshua Zinn, La Mesa, California

The applicant requests a new permit to take (harass by survey, capture, handle, release, collect adult vouchers, and collect branchiopod cysts) the Conservancy fairy shrimp (Branchinecta conservatio), the longhorn fairy shrimp (Branchinecta longiantenna), the Riverside fairy shrimp (Streptocephalus woottoni), the San Diego fairy shrimp (Branchinecta sandiegonensis), and the vernal pool tadpole shrimp (Lepidurus packardi) in conjunction with survey activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Robert Krijgsman,
Acting Regional Director, Pacific Southwest Region, Sacramento, California.

[FR Doc. 2017-12786 Filed 6-19-17; 8:45 am]

BILLING CODE 4333-15-P